DEPARTMENT OF AGRICULTURE

Food and Nutrition Service

Agency Information Collection Activities: Proposed Collection; Comment Request—State Administrative Expense Funds

AGENCY: Food and Nutrition Service (FNS), USDA.

ACTION: Notice.

SUMMARY: In accordance with the Paperwork Reduction Act of 1995, this notice invites the general public and other public agencies to comment on this information collection. This collection is a revision of a currently approved collection for State administrative expense funds expended in the operation of the Child Nutrition Programs administered under the Child Nutrition Act of 1966.

DATES: Written comments must be received on or before May 17, 2019.

ADDRESSES: Comments may be sent to Jessica Saracino, Chief, Operational Support Branch, Food and Nutrition Service, U.S. Department of Agriculture, 3101 Park Center Drive, Room 632, Alexandria, VA 22302-1594. Comments will also be accepted through the Federal eRulemaking Portal. Go to http://www.regulations.gov, and follow the online instructions for submitting comments electronically. All responses to this notice will be summarized and included in the request for Office of Management and Budget (OMB) approval, and will become a matter of public record.

FOR FURTHER INFORMATION CONTACT: Requests for additional information or copies of this information collection should be directed to Jessica Saracino at (703) 605-3223.

SUPPLEMENTARY INFORMATION: Comments are invited on: (a) Whether the proposed collection of information is necessary for the proper performance of the functions of the agency, including whether the information shall have practical utility; (b) the accuracy of the agency's estimate of the burden of the proposed collection of information, including the validity of the methodology and assumptions that were used; (c) ways to enhance the quality, utility, and clarity of the information to be collected; and (d) ways to minimize the burden of the collection of information on those who are to respond, including use of appropriate automated, electronic, mechanical, or other technological collection techniques or other forms of information technology.

Title: 7 CFR part 235—State Administrative Expense Funds.

Form Number: FNS-525.

OMB Number: 0584-0067.

Expiration Date: August 31, 2019.

Type of Request: Revision of a currently approved collection.

Abstract: Section 7 of the Child Nutrition Act of 1966 (Pub. L. 89-642), 42 U.S.C. 1776, authorizes the Department to provide Federal funds to State agencies (SAs) for administering the Child Nutrition Programs (7 CFR parts 210, 215, 220, 226 and 250). State Administrative Expense (SAE) Funds, 7 CFR part 235, sets forth procedures and recordkeeping requirements for use by SAs in reporting and maintaining records of their need and use of SAE funds. A summary of the reporting and recordkeeping burden associated with this revision is presented in the table below. For this revision, a correction was made to remove the burden associated with form FNS-74, Federal-State Agreement, since it is not an annually signed agreement resulting in a decrease of 6 recordkeeping hours and 19 reporting hours resulting for a net decrease of 25 total burden hours. This renewal contains burden associated with form FNS-525, State Administrative Expense Funds Reallocation Report. FNS plans to incorporate this form into the Food Program Reporting System (FPRS) to accommodate electronic reporting of the data. Once the renewals of OMB# 0584-0067 7 CFR part 235-State Administrative Expense Funds and OMB# 0584-0594 Food Program Reporting System (FPRS) (which expires September 30, 2019) have been approved by OMB, FNS plans to transfer FNS-525 and its associated burden from OMB# 0584-0067 into OMB# 0584-0594.

Affected Public: State Agencies.

Estimated Number of Respondents: 84.

Estimated Number of Responses per Respondent: 39.512.

Estimated Total Annual Responses: 3,319.

Estimated Hours per Response: 1.990.

Estimated Total Hours Annual Reporting Burden: 602.

Estimated Total Hours Annual Recordkeeping Burden: 6,004.

Estimated Total Annual Burden: 6,606.

Current OMB Inventory: 6,631.

Difference (requested with this renewal): −25.

Refer to the following table for estimated annual burden for each type of respondent:

Affected public | Estimated number of respondents | Number of responses per respondent | Estimated total annual responses | Estimated hours per response | Estimated total annual burden
Reporting
State Agencies | 84 | 2.024 | 170 | 3.541 | 602
Total Estimated Reporting Burden | 84 |  | 170 |  | 602
Recordkeeping
State Agencies | 84 | 37.488 | 3,149 | 1.907 | 6,004
Total Estimated Recordkeeping Burden | 84 |  | 3,149 |  | 6,004
Total of Reporting and Recordkeeping
Reporting | 84 | 2.024 | 170 | 3.541 | 602
Recordkeeping | 84 | 37.488 | 3,149 | 1.907 | 6,004
Total | 84 |  | 3,319 |  | 6,606

Dated: March 7, 2019.
Brandon Lipps,
Administrator, Food and Nutrition Service.

[FR Doc. 2019-04928 Filed 3-15-19; 8:45 am]

BILLING CODE 3410-30-P